DEPARTMENT OF JUSTICE

Notice of Lodging of Consent Decree Pursuant to the Comprehensive Environmental Response, Compensation and Liability Act

In accordance with 28 CFR 50.7 and Section 122 of the Comprehensive Environmental Response, Compensation and Liability Act (“CERCLA”), 42 U.S.C. 9622, the Department of Justice gives notice that a proposed Consent Decree, in United States v. Waste Management of Illinois, Inc. et al., Civil No. 08-50094 (N.D. Ill.), was lodged with the United States District Court for the Northern District of Illinois on May 29, 2008, pertaining to the Evergreen Manor Groundwater Contamination Superfund Site (“Site” or “Evergreen Manor Site”), located in Roscoe Township, Winnebago County, Illinois. In this action, the United States brought civil claims under Sections 106, 107 and 113(g)(2) of CERCLA, 42 U.S.C. 9606, 9607 and 9613(g)(2), against Waste Management of Illinois, Inc., Waste Management of Wisconsin, Inc., and Ecolab, Inc. (“Settling Defendants”) for implementation of remedial action and recovery of response costs incurred and to be incurred by the United States at the Site.

Under the proposed Consent Decree, the Settling Defendants are obligated to implement the remedy selected by the U.S. Environmental Protection Agency (“EPA”) in the Record of Decision (“ROD”) for the Site, and to pay $550,000 in partial recovery of the United States' past response costs incurred at the Site as well as EPA's future costs of overseeing the implementation of the remedial action.

The Department of Justice will receive, for a period of thirty (30) days from the date of this publication, comments relating to the proposed Consent Decree. Comments should be addressed to the Assistant Attorney General, Environment and Natural Resources Division, and either e-mailed to pubcomment-ees.enrd@usdoj.gov or mailed to United States Department of Justice, P.O. Box 7611, Washington, DC 20044-7611, and should refer to United States v. Waste Management of Illinois, Inc. et al., Civil No. 08-50094 (N.D. Ill.), and DOJ Reference No. 90-11-3-08952/1.

The proposed Consent Decree may be examined at: (1) The Office of the United States Attorney for the Northern District of Illinois, Rockford Division, 308 West State Street, Suite 300, Rockford, Illinois 61101 (815) 987-4444); and (2) the United States Environmental Protection Agency (Region 5), 77 West Jackson Blvd., Chicago, IL 60604-3507 (contact: John C. Matson ((312) 886-2243).

During the public comment period, the proposed Consent Decree may also be examined on the following U.S. Department of Justice Web site, http://www.usdoj.gov/enrd/Consent_Decrees.html. A copy of the proposed Consent Decree may also be obtained by mail from the Consent Decree Library, U.S. Department of Justice, P.O. Box 7611, Washington, DC 20044-7611 or by faxing or e-mailing a request to Tonia Fleetwood (tonia.fleetwood@usdoj.gov), fax no. (202) 514-0097, phone confirmation no. (202) 514-1547. In requesting a copy from the Consent Decree Library, please refer to the referenced case and DOJ Reference Number and enclose a check in the amount of $21.50 for the Consent Decree only (86 pages, at 25 cents per page reproduction costs), or in the amount of $799.25 for the Consent Decree and Appendices (3197 pages), made payable to the U.S. Treasury or, if by e-mail or fax, forward a check in that amount to the Consent Decree Library at the stated address.

William D. Brighton,
Assistant Chief, Environmental Enforcement Section, Environment and Natural Resources Division.

[FR Doc. E8-12514 Filed 6-4-08; 8:45 am]

BILLING CODE 4410-15-P